DEPARTMENT OF JUSTICE

Notice of Lodging of Consent Decree Under the Comprehensive Environmental Response, Compensation, and Liability Act

Notice is hereby given that on August 28, 2007, a proposed Consent Decree (“Decree”) in United States v. United Park City Mines Co., Civil Action No. 2:07-cv-00642-BSJ, was lodged with the United States District Court for the District of Utah.

The Decree resolves the United States' claims against United Park City Mines Company (“UPCM”) under sections 106 and 107 of the Comprehensive Environmental Response, Compensation, and Liability Act (“CERCLA”), 42 U.S.C. 9606 and 9607, for response costs and implementation of remedial action at the Richardson Flat Tailings Site outside Park City, Utah (the “Site”). The Decree requires UPCM to implement the remedy selected for the Site by the U.S. Environmental Protection Agency (“EPA”) and to pay EPA certain future response costs. The Decree includes a covenant not to sue by the United States under sections 106 and 107 of CERCLA and section 7003 of the Resource Conservation and Recovery Act (“RCRA”), 42 U.S.C. 6973.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should refer to United States v. United Park City Mines Co., D.J. Ref. 90-11-3-08764. Commenters may request an opportunity for a public meeting in the affected area, in accordance with section 7003(d) of RCRA, 42 U.S.C. 6973(d).

The Decree may be examined at the Office of the United States Attorney, 185 South State Street, Suite 400, Salt Lake City, Utah 84111, and at U.S. EPA Region 8, 1595 Wynkoop Street, Denver, Colorado 80202-1129. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $43.00 (25 cents per page reproduction cost) payable to the U.S. Treasury or, if by e-mail or fax, forward a check in that amount to the Consent Decree Library at the stated address.

Robert D. Brook,
Assistant Chief, Environmental Enforcement Section, Environment and Natural Resources Division.

[FR Doc. 07-4488 Filed 9-12-07; 8:45 am]

BILLING CODE 4410-15-M